DEPARTMENT OF HOMELAND SECURITY

Coast Guard

[Docket No. USCG-2024-0188]

National Boating Safety Advisory Committee; Vacancy; Correction

AGENCY: U.S. Coast Guard, Department of Homeland Security.

ACTION: Notice; request for applications; correction.

SUMMARY: The Coast Guard published a notice on April 1, 2024, regarding a vacancy on the National Boating Safety Advisory Committee (Committee). This Committee advises the Secretary of Homeland Security, via the Commandant of the U.S. Coast Guard, on matters relating to national recreational boating safety. The April 1 notice contained typographical errors that listed multiple vacancies rather than one vacancy. This document corrects those errors.

FOR FURTHER INFORMATION CONTACT: Mr. Thomas Guess, Alternate Designated Federal Officer of the National Boating Safety Advisory Committee; telephone 206-815-0221 or email at NBSAC@uscg.mil.

Correction

In the Federal Register of April 1, 2024, in FR Doc. 2024-06797, on page 22416, in the second column, correct the first sentence of the Summary to read: “The U.S. Coast Guard is accepting applications to fill one vacancy on the National Boating Safety Advisory Committee (Committee).”

On page 22417, in the first column, correct the first full paragraph to read: “In this solicitation for Committee members, we will consider applications for one position as a member representing national recreational boating organizations.”

On page 22417, in the first column, correct the third full paragraph to read: “The member who will fill the position will be appointed as a representative to represent the position described above and is not a Special Government Employee as defined in 18 U.S.C. 202(a).”

On page 22417, in the first column, correct the first sentence of the Privacy Act Statement to read: “Purpose: To obtain qualified applicants to fill one vacancy on the National Boating Safety Advisory Committee.”

Dated: April 2, 2024.
Michael T. Cunningham,
Chief, Office of Regulations and Administrative Law.

[FR Doc. 2024-07259 Filed 4-4-24; 8:45 am]

BILLING CODE 9110-04-P